DEPARTMENT OF ENERGY

DOE Response to Recommendation 2014-1 of the Defense Nuclear Facilities Safety Board, Emergency Preparedness and Response

AGENCY: Department of Energy.

ACTION: Notice.

SUMMARY: On September 3, 2014, the Defense Nuclear Facilities Safety Board submitted Recommendation 2014-1, concerning Emergency Preparedness and Response, to the Department of Energy. In accordance with section 315(c) of the Atomic Energy Act of 1954, as amended, 42 U.S.C. 2286d(c), the following represents the Secretary of Energy's response to the Recommendation.

DATES: Comments, data, views, or arguments concerning the Secretary's response are due on or before December 31, 2014.

ADDRESSES: Please send comments to: Defense Nuclear Facilities Safety Board, 625 Indiana Avenue NW., Suite 700, Washington, DC 20004.

FOR FURTHER INFORMATION CONTACT: Mr. Daniel Sigg, Office of the Departmental Representative to the Defense Nuclear Facilities Safety Board, Office of Environment, Health, Safety and Security, U.S. Department of Energy, 1000 Independence Avenue SW., Washington, DC 20585, 202-586-1857.

Issued in Washington, DC on November 7, 2014.
Joe Olencz,
Departmental Representative, to the Defense Nuclear Facilities Safety Board, Office of Environment, Health, Safety and Security.

November 7, 2014

The Honorable Peter S. Winokur

Chairman

Defense Nuclear Facilities Safety Board

625 Indiana Avenue NW, Suite 700

Washington, DC 20004

Dear Mr. Chairman:

The Department of Energy (DOE) acknowledges receipt of Defense Nuclear Facilities Safety Board (Board) Recommendation 2014-01, Emergency Preparedness and Response, issued on September 3, 2014, and published in the Federal Register on September 23, 2014.

The Department shares the Board's view that actions are needed to improve emergency preparedness and response capabilities at its defense nuclear facilities. As stated in my August 5, 2014, letter to you, the Department's emergency preparedness and response infrastructure, capabilities, and resources are of great importance to me and DOE's senior leadership. Recommendation 2014-01 will complement the actions that the Department has already initiated to improve emergency management. I also stated that it is the Department's responsibility to determine the requisite timeline to accomplish the actions in our Implementation Plan to address Board recommendations.

I understand the Board's enabling statute requires the Department to complete implementation of its plan within one year. I am placing a high priority on addressing the Recommendation; however, due to the complexity and broad reach of the Department's actions, we probably will not be able to complete our corrective actions within one year, in which case we will make the necessary notifications prescribed by law.

Therefore, with the exception of the “end of 2016” timeline, DOE accepts the remainder of sub-Recommendation 1 and all of sub-Recommendation 2.

I share your intent to improve emergency management in the Department. In developing an Implementation Plan to address each specific action of this Recommendation, the Department will expeditiously proceed with improvements, accomplishing the highest priorities within a one-year period. We will prioritize efforts and will maintain a dialogue with your staff as we move forward to address your concerns.

We appreciate the Board's perspective and look forward to continued positive interactions with you and your staff on preparing DOE's Implementation Plan. I have assigned Ms. Deborah Wilber, the Acting Associate Administrator, Office of Emergency Operations, to be the Department's responsible manager for this Recommendation.

If you have any questions, please contact me or Ms. Wilber at (202) 586-9892.

Sincerely,

Ernest J. Moniz

[FR Doc. 2014-28210 Filed 11-28-14; 8:45 am]

BILLING CODE 6450-01-P